DEPARTMENT OF TRANSPORTATION

Federal Motor Carrier Safety Administration

[Docket No. FMCSA-2003-15024]

Notice of Request for Renewal of a Currently Approved Information Collection: Financial Responsibility for Motor Carriers of Passengers and Motor Carriers of Property

AGENCY: Federal Motor Carrier Safety Administration (FMCSA), DOT.

ACTION: Notice and request for comments.

SUMMARY: In accordance with section 3506(c)(2)(A) of the Paperwork Reduction Act of 1995 (PRA), this notice announces the agency's intention to request the Office of Management and Budget (OMB) to renew its clearance of a currently approved information collection identified below under the heading “Supplementary Information.” This information collection renewal assures that motor carriers of property and passengers maintain an appropriate level of financial responsibility for operating on public highways.

DATES: Comments must be submitted on or before July 29, 2003.

ADDRESSES: All signed, written comments should refer to the docket number that appears in the heading of this document and must be submitted to the Docket Clerk, U.S. Department of Transportation, Dockets Management Facility, Room PL-401, 400 Seventh Street, SW., Washington, DC 20590, or submit electronically at http://dmses.dot.gov/submit. All comments received will be available for examination and copying at the above address between 9 a.m. and 5 p.m., e.t., Monday through Friday, except Federal holidays. Those desiring notification of receipt of comments must include a self-addressed, stamped postcard or you may print the acknowledgment page that appears after submitting comments electronically.

Electronic Availability: An electronic copy of this document may be downloaded using a computer, modem, and suitable communications software from the Government Printing Office's electronic bulletin board service (telephone: 202-512-1661). It may also be downloaded over the Internet, from the home page of the Federal Register at: http://www.nara.gov/fedreg, or the database of the Government Printing Office at: http://www.access.gpo.gov/nara. Internet users can access all comments received by the U.S. DOT Dockets, Room PL-401, by using the universal resource locator (URL): http://dms.dot.gov. This service is available 24 hours each day, 365 days each year. Please follow the instructions online for more information and help.

FOR FURTHER INFORMATION CONTACT: Ms. Marian Lee, (202) 385-2423, Insurance Compliance Division (MC-ECI), Federal Motor Carrier Safety Administration, Department of Transportation, 400 Seventh Street, SW., Washington, DC 20590. Office hours are from 7:45 a.m. to 4:15 p.m., e.t., Monday through Friday, except Federal holidays.

SUPPLEMENTARY INFORMATION: Title: Financial Responsibility for Motor Carrier of Passengers and Motor Carriers of Property.

OMB Control Number: 2126-0008.

Background: The Secretary of Transportation is responsible for implementing regulations which establish minimal levels of financial responsibility for: (1) Motor carriers of property to cover public liability, property damage, and environmental restoration, and (2) for-hire motor carriers of passengers to cover public liability and property damage. The Endorsement for Motor Carrier Policies of Insurance for Public Liability (Form MCS-90/90B) and the Motor Carrier Public Liability Surety Bond (Form MCS-82/82B) contain the minimum amount of information necessary to document that a motor carrier has obtained, and has in effect, the minimum levels of financial responsibility as set forth in applicable regulations (motor carriers of property—49 CFR 387.9; and motor carrier of passengers—49 CFR 387.33). FMCSA and the public can verify that a motor carrier of property or passengers has obtained, and has in effect, the required minimum levels of financial responsibility, by use of the information embraced within these documents.

Respondents: Insurance and surety companies of motor carriers of property (Form MCS-90 and Form MCS-82) and motor carriers of passengers (Form MCS-90B and Form MCS-82B).

Average Burden Per Response: Two minutes to complete the Endorsement for Motor Carrier Policies of Insurances for Public Liability or the Motor Carrier Public Liability Surety Bond; one minute to file the Motor Carrier Public Liability Surety Bond; one minute to have either document on board the vehicle (foreign-domiciled motor carriers only). These endorsements are maintained at the motor carrier's principal place of business (49 CFR 387.7 (iii)(d)).

Estimated Total Annual Burden: 5,285 hours.

Frequency: Upon creation, change, or replacement of an insurance policy or surety bond.

Public Comments Invited: Interested parties are invited to submit comments online through the Docket Management System (DMS) at http//dmses.dot.gov/submit, regarding any aspect of this information collection, including, but not limited to: (1) The necessity and utility of the information collection for the proper performance of the functions of the FMCSA; (2) the accuracy of the estimated burden; (3) ways to enhance the quality, utility, and clarity of the collected information; and (4) ways to minimize the collection burden without reducing the quality of the collected information. Comments submitted in response to this notice will be summarized and/or included in the request for OMB's clearance of this information collection.

Authority: 23 U.S.C. 315; 44 U.S.C. 3506(c)(2)(A); and 49 CFR 1.73.

Issued on: May 22, 2003.
Annette M. Sandberg,
Acting Administrator.

[FR Doc. 03-13489 Filed 5-29-03; 8:45 am]

BILLING CODE 4910-EX-P